ARCHITECTURAL AND TRANSPORTATION BARRIERS COMPLIANCE BOARD

36 CFR Part 1196

[Docket No. ATBCB-2013-0003]

RIN 3014-AA11

Passenger Vessels Accessibility Guidelines

Correction

In proposed rule document 2013-14367, appearing on pages 38102-38159 in the issue of Tuesday, June 25, 2013, make the following correction:

PART 1196—PASSENGER VESSELS ACCESSIBILITY GUIDELINES [CORRECTED]

On page 38159, the figures titled as “Figure V703.7.2.2 International Symbol of TTY” and “Figure V703.7.2.3 Assistive Listening Systems” were inadvertently omitted after the figure titled “Figure V703.7.2.1 International Symbol of Accessibility” and are added to read as set forth below:

[FR Doc. C1-2013-14367 Filed 7-1-13; 8:45 am]

BILLING CODE 1505-01-D